DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Testing of Electronic Health Records Questions for the National Survey of Substance Abuse Treatment Services (N-SSATS) and the National Mental Health Services Survey (N-MHSS)—NEW

The Substance Abuse and Mental Health Services Administration (SAMHSA), Center for Behavioral Health Statistics and Quality (CBHSQ), is requesting approval for conducting cognitive testing on the use of electronic health records (EHRs) by substance abuse and mental health treatment facilities in the United States. The final goal of this cognitive testing is to incorporate questions on electronic health records to SAMHSA's National Survey of Substance Abuse Treatment Services (N-SSATS) and the National Mental Health Services Survey (N-MHSS).

Currently, there is a lack of national level data that exists on behavioral health care providers' progress toward interoperability. The National Council for Behavioral Health in 2011/2012 conducted a survey to determine health information technology (IT) readiness. This data focused only on the membership of the National Council for Behavioral Health and does not provide national baseline data on the four domains of interoperability that are outlined in the Interoperability Roadmap (finding, sending, receiving and integrating data into EHRs) for behavioral health care providers. Currently, these providers are not eligible to participate in interoperability driving efforts such as the Medicare Access and CHIP Reauthorization Act of 2015 (MACRA) initiative. However, some behavioral health providers may be eligible in the future to participate in value-based payment initiatives such as the Merit-Based Incentive Payment System (MIPS). Measuring and reporting the state of interoperability will help to determine the type of support these providers need and their readiness to participate in delivery system reform efforts in the future.

Collaboration between the Office of the National Coordinator for Health Information Technology (ONC) and SAMHSA on this data collection effort will provide an efficient manner to track trends in health IT adoption, use, and interoperability among behavioral health care providers. In addition, this collaboration will contribute to the development of strategic efforts to leverage health IT in behavioral health care settings to provide cost effective, high quality and patient-centered care. Results from this testing will allow ONC and SAMHSA to work together to quantitatively assess health IT adoption and interoperability among behavioral health care providers using SAMHSA's current national surveys, the National Survey of Substance Abuse Treatment Services (N-SSATS) and the National Mental Health Services Survey (N-MHSS).

The information obtained from these efforts will be used to develop a new set of questions on the use and implementation of EHRs in behavioral health facilities for the N-SSATS and the N-MHSS surveys. Specifically, the information from the testing will be used to reduce respondent burden while simultaneously improving the quality of the data collected in these surveys.

Data from this testing will be collected mostly via telephone interviews, and few cases conducted with in-person interviews. Results of this test will not be disseminated or used to inform policy, program, or budget decisions. Findings will be shared between ONC and SAMHSA staff to decide how the tested questions will be incorporated in the surveys.

It is estimated that the total burden for this project is 40 hours, based on a maximum of 80 interviews with an average of 30 minutes per interview.

The request for OMB seeks approval to conduct this testing of EHR questions during the Fall of 2018 for possible implementation starting in 2020.

The total estimated burden for this study is 39.2 hours for the period from September through December 2018.

Survey | Number of respondents | Responses per respondent | Total number of responses | Hours per response | Total burden hours
Interviews | 80 | 1 | 80 | .50 | 40

Written comments and recommendations concerning the proposed information collection should be sent by October 31, 2018 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2018-21252 Filed 9-28-18; 8:45 am]

BILLING CODE 4162-20-P